DEPARTMENT OF COMMERCE

Foreign-Trade Zones Board

[Order No. 1902]

Reorganization and Expansion of Foreign-Trade Zone 79 Under Alternative Site Framework Tampa, Florida

Pursuant to its authority under the Foreign-Trade Zones Act of June 18, 1934, as amended (19 U.S.C. 81a-81u), the Foreign-Trade Zones Board (the Board) adopts the following Order:

Whereas, the Board adopted the alternative site framework (ASF) (74 FR 1170-1173, 01/12/2009; correction 74 FR 3987, 01/22/2009; 75 FR 71069-71070, 11/22/2010) as an option for the establishment or reorganization of general-purpose zones;

Whereas, the City of Tampa, grantee of Foreign-Trade Zone 79, submitted an application to the Board (FTZ Docket 24-2012, filed 03/23/12) for authority to reorganize and expand under the ASF with a service area of the Counties of Hillsborough and Polk and the City of Tampa, within and adjacent to the Tampa Customs and Border Protection port of entry; FTZ 79's existing Sites 2, 4, 5, 6 and 7 and proposed site 9 would be categorized as magnet sites; proposed Site 10 would be categorized as a usage-driven site; and, Sites 1 and 3 would be removed.

Whereas, notice inviting public comment was given in the Federal Register (77 FR 19001-19002, 03/29/12), and the application has been processed pursuant to the FTZ Act and the Board's regulations; and,

Whereas, the Board adopts the findings and recommendations of the examiner's report (including for the removal of Site 8) and finds that the requirements of the FTZ Act and the Board's regulations are satisfied;

Now, therefore, the Board hereby orders:

The application to reorganize and expand FTZ 79 under the alternative site framework is approved, subject to the FTZ Act and the Board's regulations, including Section 400.13, to the Board's standard 2,000-acre activation limit for the zone, to a five-year sunset provision for magnet sites that would terminate authority for Sites 2, 4, 6, 7 and 9 if not activated by June 30, 2018, and to a three-year ASF sunset provision for a usage-driven site that would terminate authority for Site 10 if no foreign status merchandise is admitted for a bona fide customs purpose by June 30, 2016.

Signed at Washington, DC, this 10th day of June 2013.
Paul Piquado,
Assistant Secretary of Commerce for Import Administration, Alternate Chairman, Foreign-Trade Zones Board.
Attest:
Andrew McGilvray,
Executive Secretary.

[FR Doc. 2013-14344 Filed 6-14-13; 8:45 am]

BILLING CODE 3510-DS-P